DEPARTMENT OF ENERGY

Federal Energy Regulatory Commission

[Project No. 2558-029]

Green Mountain Power Corporation; Notice of Availability of Final Environmental Assessment

In accordance with the National Environmental Policy Act of 1969 and the Federal Energy Regulatory Commission (Commission) regulations, 18 CFR Part 380 (Order No. 486, 52 FR 47897), the Office of Energy Projects has reviewed the application for a new license for the 21.814-megawatt (MW) Otter Creek Hydroelectric Project (Commission Project No. 2558-029) and has prepared a final environmental assessment (final EA). The project consists of three developments (Proctor, Beldens, and Huntington Falls) located on Otter Creek in Addison and Rutland counties, Vermont.

In the final EA, Commission staff analyzes the potential environmental effects of relicensing the project and concludes that issuing a new license for the project, with appropriate environmental measures, would not constitute a major federal action significantly affecting the quality of the human environment.

A copy of the final EA is available for review at the Commission in the Public Reference Room or may be viewed on the Commission's Web site at www.ferc.gov using the “eLibrary” link. Enter the docket number, excluding the last three digits, in the docket number field to access the document. For assistance, contact Commission Online Support at CommissionOnlineSupport@ferc.gov; toll-free at 1-866-208-3676; or for TTY, (202) 502-8659.

You may also register online at www.ferc.gov/docs-filing/esubscription.asp to be notified via email of new filings and issuances related to this or other pending projects. For assistance, contact Commission Online Support.

For further information, contact Aaron Liberty at (202) 502-6862 or by email at aaron.liberty@ferc.gov.

Dated: July 26, 2013.
Kimberly D. Bose,
Secretary.

[FR Doc. 2013-18589 Filed 8-1-13; 8:45 am]

BILLING CODE 6717-01-P